COMMITTEE FOR PURCHASE FROM PEOPLE WHO ARE BLIND OR SEVERELY DISABLED

Procurement List; Additions and Deletions

AGENCY: Committee for Purchase from People Who Are Blind or Severely Disabled.

ACTION: Additions to and deletions from Procurement List.

SUMMARY: This action adds to the Procurement List products and services to be furnished by nonprofit agencies employing persons who are blind or have other severe disabilities, and deletes from the Procurement List products previously furnished by such agencies.

EFFECTIVE DATE: August 11, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION:

Additions

On March 29, May 17, and May 24, 2002, the Committee for Purchase From People Who Are Blind or Severely Disabled published notice (67 FR 15175, 35096, and 36567) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4. I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

Accordingly, the following products and services are added to the Procurement List:

Products

Product/NSN: Pad, Message, “While You Were Out”

7530-00-NIB-0547.

NPA: Blind Industries & Services of Maryland, Baltimore, Maryland.

Contract Activity: Office Supplies & Paper Products Acquisition Center, New York, New York.

Product/NSN: Pad, Scouring

7920-00-171-1534.

NPA: Beacon Lighthouse, Inc., Wichita Falls, Texas.

Contract Activity: GSA, General Products Center, Fort Worth, Texas.

Product/NSN: Uniforms, Shirts and Pants

8405-00-NSH-0002 (Blue Pants, Small).

8405-00-NSH-0003 (Blue Pants, Medium).

8405-00-NSH-0004 (Blue Pants, Large).

8405-00-NSH-0005 (Blue Pants, X-Large).

8405-00-NSH-0006 (Blue Pants, XX-Large).

8405-00-NSH-0007 (Blue Pants, XXX-Large).

8405-00-NSH-0008 (Blue Pants, XXXX-Large).

8405-00-NSH-0009 (Blue Top, Small).

8405-00-NSH-0010 (Blue Top, Medium).

8405-00-NSH-0011 (Blue Top, Large).

8405-00-NSH-0012 (Blue Top, X-Large).

8405-00-NSH-0013 (Blue Top, XX-Large).

8405-00-NSH-0014 (Blue Top, XXX-Large).

8405-00-NSH-0015 (Blue Top, XXXX-Large).

NPA: Middle Georgia Diversified Industries, Inc., Dublin, Georgia.

Contract Activity: Immigration and Naturalization Service, DOJ.

Services

Service Type/Location: Administrative Support Services, Federal Bureau of Prisons, Butner, North Carolina.

NPA: Raleigh Lions Clinic for the Blind, Inc., Raleigh, North Carolina.

Contract Activity: Federal Bureau of Prisons LSCI, Butner, North Carolina.

Service Type/Location: Administrative Support Services, GSA Tampa Property Management Office, Tampa, Florida.

NPA: Tampa Lighthouse for the Blind, Tampa, Florida.

Contract Activity: GSA Property Management Division, Atlanta, Georgia.

Service Type/Location: Janitorial/Grounds and Related Services, Federal Building, Tucson, Arizona. Motor Pool Office and Garage, Tucson, Arizona. US Border Patrol Sector HQ, Tucson, Arizona.

NPA: Tetra Corporation, Tucson, Arizona.

Contract Activity: GSA, Public Buildings Service, San Francisco, California.

Service Type/Location: Packaging Service: Crane Division, Naval Surface Warfare Center, Crane, Indiana.

NPA: Knox County Association for Retarded Citizens, Inc., Vincennes, Indiana.

Contract Activity: Naval Surface Warfare Center, Crane, Indiana.

Deletions

I certify that the following action will not have a significant impact on a substantial number of small entities. The major factors considered for this certification were:

1. The action may not result in any additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

After consideration of the relevant matter presented, the committee has determined that the products listed below are no longer suitable for procurement by the Federal Government under 41 U.S.C. 46-48c and 41 CFR 51-2.4.

Accordingly, the following products are hereby deleted from the Procurement List:

Products

Product/NSN: Impulse Merchandising Program (IMP) Shippers.

M.R. 11522 (Corn Skewers).

M.R. 11577 (Pet Scooper/Pet Lids).

M.R. 11602 (Straws).

M.R. 11618 (Foil Baking Cups).

M.R. 11695 (Cheese Cloth).

NPA: Winston-Salem Industries for the Blind, Winston-Salem, North Carolina.

Contract Activity: Defense Commissary Agency, Fort Lee, Virginia.

Sheryl D. Kennerly,
Director, Information Management.

[FR Doc. 02-17545 Filed 7-11-02; 8:45 am]

BILLING CODE 6353-01-P